DEPARTMENT OF COMMERCE

International Trade Administration

[A-201-843]

Prestressed Concrete Steel Rail Tie Wire From Mexico: Final Determination of Sales at Less Than Fair Value

AGENCY: Enforcement and Compliance, International Trade Administration, Department of Commerce.

SUMMARY: The Department of Commerce (the Department) determines that imports of prestressed concrete steel rail tie wire (PC tie wire) from Mexico are likely to be sold in the United States at less than fair value, as provided in section 735 of the Tariff Act of 1930, as amended (the Act). The final weighted-average dumping margins are listed below in the section entitled “Final Determination Margins.”

DATES: Effective Date: May 5, 2014.

FOR FURTHER INFORMATION CONTACT: Brandon Custard or Rebecca Trainor, AD/CVD Operations, Office II, Enforcement and Compliance, International Trade Administration, U.S. Department of Commerce, 14th Street and Constitution Avenue NW., Washington, DC 20230; telephone: (202) 482-1823 or (202) 482-4007, respectively.

SUPPLEMENTARY INFORMATION:

Background

On December 12, 2013, the Department published in the Federal Register the preliminary determination of sales at less than fair value in the antidumping duty investigation of PC tie wire from Mexico.¹ The following events occurred since the preliminary determination was issued.

¹ See Prestressed Concrete Steel Rail Tie Wire from Mexico: Preliminary Determination of Sales at Less Than Fair Value and Postponement of Final Determination, 78 FR 75544 (December 12, 2013) (Preliminary Determination).

We issued a supplemental cost questionnaire to Aceros Camesa, S.A. de C.V. (Camesa) on December 16, 2013, and received a response to this supplemental questionnaire on December 23, 2013. Between December 11, 2013, and January 24, 2014, the Department conducted sales and cost verifications of Camesa, in accordance with section 782(i) of the Act.² On January 13, 2014, Camesa requested that the Department hold a hearing in this investigation. On February 26, 2014, Camesa withdrew its hearing request. On February 27, 2014, the petitioners ³ and Camesa submitted case briefs. On March 5, and March 6, 2014, the petitioners and Camesa submitted rebuttal briefs, respectively.

² See the “Verification” section, below.

³ The petitioners in this investigation are Davis Wire Corporation and Insteel Wire Products Company.

Period of Investigation

The period of investigation (POI) is April 1, 2012, through March 31, 2013.

Scope of the Investigation

The product covered by this investigation is high carbon steel wire; stress relieved or low relaxation; indented or otherwise deformed; meeting at a minimum the physical, mechanical, and chemical requirements of the American Society of Testing Materials (ASTM) A881/A881M specification; regardless of shape, size or alloy element levels; suitable for use as prestressed tendons in concrete railroad ties (PC tie wire). High carbon steel is defined as steel that contains 0.6 percent or more of carbon by weight.

PC tie wire is classified under the Harmonized Tariff Schedule of the United States (HTSUS) subheading 7217.10.8045, but may also be classified under subheadings 7217.10.7000, 7217.10.8025, 7217.10.8030, 7217.10.8090, 7217.10.9000, 7229.90.1000, 7229.90.5016, 7229.90.5031, 7229.90.5051, 7229.90.9000, and 7312.10.3012. Although the HTSUS subheadings are provided for convenience and customs purposes, the written description of the scope of the investigation is dispositive.

Analysis of Comments Received

All issues raised in the case and rebuttal briefs by parties in this investigation are addressed in the Issues and Decision Memorandum ⁴ which is hereby adopted by this notice. A list of the issues raised is attached to this notice as Appendix I. Based on our analysis of comments received, we made changes to the margin calculations which are described in the Issues and Decision Memorandum. The Issues and Decision Memorandum is a public document and is on file electronically via Enforcement and Compliance's Antidumping and Countervailing Duty Centralized Electronic Service System (IA ACCESS). IA ACCESS is available to registered users at http://iaaccess.trade.gov and it is available to all parties in the Central Records Unit, room 7046 of the main Department of Commerce building. In addition, a complete version of the Issues and Decision Memorandum can be accessed directly at http://enforcement.trade.gov/frn/. The signed and electronic versions of the Issues and Decision Memorandum are identical in content.

⁴ Memorandum from Christian Marsh, Deputy Assistant Secretary for Antidumping and Countervailng Duty Operations, to Paul Piquado, Assistant Secretary for Enforcement and Compliance, “Issues and Decision Memorandum for the Antidumping Duty Investigation of Prestressed Concrete Steel Rail Tie Wire From Mexico” (April 28, 2014) (Issues and Decision Memorandum).

Changes Since the Preliminary Determination

Based on our analysis of the comments received and our findings at verification, we made certain changes to the margin calculations. For a discussion of these changes, see the “Margin Calculations” section of the Issues and Decision Memorandum.

Verification

As provided in section 782(i) of the Act, in December 2013 and January 2014, we verified the sales and cost information submitted by Camesa for use in our final determination. We used standard verification procedures including an examination of relevant accounting and production records, and original source documents provided by Camesa.⁵

⁵ See Memorandum to the File, “Verification of the Sales Response of WireCo World Group Inc. (WireCo) in the Antidumping Duty Investigation of Prestressed Concrete Steel Rail Tie Wire from Mexico” (February 14, 2014); Memorandum to the File, “Verification of the Sales Response of Aceros Camesa, SA. De C.V. (Camesa) in the Antidumping Duty Investigation of Prestressed Concrete Steel Rail Tie Wire from Mexico” (February 14, 2014); and Memorandum to the File, “Verification of the Cost Response of Aceros Camesa S.A. de C.V. in the Less-Than-Fair-Value Investigation of Prestressed Concrete Steel Rail Tie Wire from Thailand” (February 18, 2014).

Continuation of Suspension of Liquidation

Pursuant to 735(c)(1)(B) of the Act, we will instruct U.S. Customs and Border Protection (CBP) to continue to suspend liquidation of all entries of subject merchandise from Mexico, entered, or withdrawn from warehouse, for consumption on or after December 12, 2013, the date of publication of the preliminary determination in the Federal Register. CBP shall require a cash deposit equal to the estimated amount by which the normal value exceeds the U.S. price as shown below. These instructions suspending liquidation will remain in effect until further notice.

Final Determination Margins

The weighted-average dumping margins are as follows:

⁶ See section 735(c)(5)(A) of the Act.

Exporter/manufacturer | Weighted-average dumping margin (percent)
Aceros Camesa S.A. de C.V | 9.99
All Others | 9.99
The “All Others” rate is based on the weighted-average dumping margin calculated for Camesa, the only company individually examined and for which the Department calculated a rate.⁶

Disclosure

We will disclose the calculations performed within five days of the date of publication of this notice to parties in this proceeding in accordance with 19 CFR 351.224(b).

ITC Notification

In accordance with section 735(d) of the Act, we notified the U.S. International Trade Commission (ITC) of our final determination. As our final determination is affirmative, the ITC will determine within 45 days whether imports of the subject merchandise are causing material injury, or threat of material injury, to an industry in the United States. If the ITC determines that material injury or threat of material injury does not exist, the proceeding will be terminated and all securities posted will be refunded or canceled. If the ITC determines that such injury does exist, the Department will issue an antidumping duty order directing CBP to assess antidumping duties on all imports of the subject merchandise entered, or withdrawn from warehouse, for consumption on or after the effective date of the suspension of liquidation.

Return or Destruction of Proprietary Information

This notice will serve as the only reminder to parties subject to administrative protective order (APO) of their responsibility concerning the destruction of proprietary information disclosed under APO in accordance with 19 CFR 351.305(a)(3). Timely written notification of return/destruction of APO materials or conversion to judicial protective order is hereby requested. Failure to comply with the regulations and the terms of an APO is a sanctionable violation.

We are issuing and publishing this determination and notice in accordance with sections 735(d) and 777(i) of the Act.

Dated: April 28, 2014.
Paul Piquado,
Assistant Secretary for Enforcement and Compliance.

Appendix—Issues and Decision Memorandum

I. Summary

II. Background

III. Scope of Investigation

IV. Scope Comments

V. Margin Calculations

VI. Discussion of the Issues

1. Calculation of the Constructed Export Price (CEP) Profit Ratio

2. Calculation of the Constructed Value (CV) Selling Expense Ratio

3. Treatment of Certain Salary Expenses

4. Preliminary Determination Unreconciled Difference

5. Cost Verification Findings

6. General and Administrative (G&A) Offsets

7. CV Profit

[FR Doc. 2014-10241 Filed 5-2-14; 8:45 am]

BILLING CODE 3510-DS-P